DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-0361.

Project: SAMHSA Generic Clearance for Grant Program Monitoring Activities

To carry out OMB Circular A-102 ¹ and 2 CFR part 215.51,² SAMHSA must collect grant program information necessary to ensure compliance with Federal and programmatic requirements. The Generic Clearance for Grant Program Monitoring Activities allows SAMHSA to collect standardized information from its grant recipients necessary to perform agency program oversight activities such as monitoring progress on recipient activities and determining and responding to recipient's training and technical assistance (T/TA) needs. SAMHSA currently manages grant programs that provide prevention, treatment, recovery support services, and T/TA for substance use treatment and mental health providers along the continuum of care including prevention, harm reduction, treatment, and recovery.

¹ Circular A-102: https://www.whitehouse.gov/wp-content/uploads/legacy_drupal_files/omb/circulars/A102/a102.pdf.

² 2 CFR part 215.51: https://www.govinfo.gov/content/pkg/CFR-2012-title2-vol1/pdf/CFR-2012-title2-vol1-subtitleA.pdf.

SAMHSA's grant recipients are currently required to submit various types of performance reports in accordance with their individual program requirements. The data collections will be designed to standardize program monitoring and performance reports of SAMHSA's grants. Program offices will use information collected under this generic clearance to monitor funding recipient activities and to provide support or take appropriate action, as needed.

A generic clearance would provide SAMHSA's program offices the flexibility to create and use tailored information collection templates based on current program reporting requirements. This is important to allow for SAMHSA's:

• Monitoring of compliance with federal practice, guidelines, and requirements,

• Oversight of the implementation of the scope of the grant activities with the grant recipients' proposed project,

• Assessment of the efficiency and efficacy of recipient activities,

• Quick understanding of and remediation to national, regional, and/or site-specific issues,

• Provision of additional support and technical assistance, as needed,

• Documentation of promising practices, innovative services, and program strengths, and

• Flexible and responsive oversight of federal funds.

A variety of performance reports will be used for collection. Program offices will use information collected under this generic clearance to monitor funding recipient activities and to provide support or take appropriate action, as needed.

A variety of instruments and platforms will be used to collect information from respondents. The annual burden hours requested (180,000) are based on the number of collections we expect to conduct over the requested period for this clearance.

The estimated annual hour burden is as follows:

Type of respondent | Number of respondents | Responses per respondent | Total responses | Hours per response | Total annual burden hours | Hourly wage cost | Total hour cost
Progress Report Template (Annual) | 4,000 | 1 | 4,000 | 8 | 32,000 | $26 | $832,000
Progress Report (Interim) | 2,500 | 2 | 5,000 | 6 | 30,000 | 26 | 780,000
Grant Closeouts | 1,000 | 1 | 1,000 | 10 | 10,000 | 26 | 260,000
Site Visit Report Template | 4,000 | 1 | 4,000 | 6 | 24,000 | 26 | 624,000
Other | 4,000 | 1 | 4,000 | 6 | 24,000 | 26 | 624,000
Total | 20,000 |  | 28,000 |  | 180,000 |  | 3,120,000

Written comments and recommendations for the proposed information collection should be sent within 30 days of publication of this notice to www.reginfo.gov/public/do/PRAMain. Find this information collection by selecting “Currently under 30-day Review—Open for Public Comments” or by using the search function.

Alicia Broadus,
Public Health Advisor.

[FR Doc. 2023-13844 Filed 6-28-23; 8:45 am]

BILLING CODE 4162-20-P